DEPARTMENT OF COMMERCE

National Oceanic and Atmospheric Administration

RIN 0648-XC148

Migratory Bird Conservation; Executive Order 13186

AGENCY: National Marine Fisheries Service (NMFS), National Oceanic and Atmospheric Administration (NOAA), Commerce.

ACTION: Notice of availability.

SUMMARY: This notice announces the availability of the final signed Memorandum of Understanding (MOU) between the National Marine Fisheries Service (NMFS) and the U.S. Fish and Wildlife Service (FWS) to promote the conservation of migratory birds.

DATES: This MOU went into effect on July 17, 2012, the date it was signed.

FOR FURTHER INFORMATION CONTACT: Kim Rivera, (907) 586-7424, email Kim.Rivera@noaa.gov.

SUPPLEMENTARY INFORMATION: On January 10, 2001, President Clinton signed Eexecutive Order (EO) 13186, “Responsibilities of Federal Agencies to Protect Migratory Birds”. One of the requirements of E.O. 13186 is that each Federal agency taking actions that have, or are likely to have, a measurable negative effect on migratory bird populations is directed to develop and implement a MOU with the FWS that shall promote the conservation of migratory bird populations (E.O. 13186 Section 3(a)). On July 17, 2012, NMFS and FWS finalized this MOU to conserve migratory bird populations as prescribed by E.O. 13186. This MOU went into effect on the date it was signed.

This NMFS-FWS MOU encompasses all relevant seabird-related NMFS activities and identifies specific areas of collaboration and cooperation with FWS, including seabird bycatch reduction, information sharing and coordination, international policy and diplomacy, and habitat conservation. The MOU also provides for strengthening migratory bird conservation by identifying strategies that promote conservation and reduce adverse impacts on migratory birds through enhanced collaboration between NMFS and the FWS. In addition, This MOU identifies specific activities where cooperation between NMFS and the FWS, will contribute to the conservation of migratory birds and their habitat. These activities are intended to complement and support existing efforts and to facilitate new collaborative conservation efforts for migratory birds.

The complete text of the MOU is available at http://www.fakr.noaa.gov/protectedresources/seabirds/mou/eo13186_nmfs_fws_mou2012.pdf. Section 3(g) of the E.O. 13186 states that “Each agency shall advise the public of the availability of its MOU through a notice published in the Federal Register.” This notice fulfills the requirements of Section 3(g) of E.O. 13186. The E.O. is posted at http://www.fakr.noaa.gov/protectedresources/seabirds/protectmigratory.pdf.

Dated: September 27, 2012.
Samuel D. Rauch III,
Deputy Assistant Administrator for Regulatory Programs, Performing the functions and duties of the Assistant Administrator for Fisheries, National Marine Fisheries Service.

[FR Doc. 2012-24433 Filed 10-2-12; 8:45 am]

BILLING CODE 3510-22-P